DEPARTMENT OF THE INTERIOR

Bureau of Land Management

[18XL LLIDI00000.L71220000.EO0000.LVTFDX402300 241A 4500129252]

Notice of Availability of the Draft Environmental Impact Statement for the Proposed Caldwell Canyon Mine Project, Caribou County, Idaho

AGENCY: Bureau of Land Management, Interior.

ACTION: Notice of availability.

SUMMARY: In accordance with the National Environmental Policy Act of 1969, as amended, the Bureau of Land Management (BLM) has prepared a Draft Environmental Impact Statement (EIS) for the proposed Caldwell Canyon Mine Project, and by this notice is announcing the opening of the comment period.

DATES: To ensure the BLM considers all comments, the BLM must receive written comments on the Draft EIS for the proposed Caldwell Canyon Mine Project within 45 days following the date the Environmental Protection Agency publishes this Notice of Availability in the Federal Register. The BLM will announce public comment meetings at least 15 days in advance through public notices, media release, and/or mailings. To assist the BLM in identifying issues and concerns related to this project and the Draft EIS, comments should be as specific as possible.

ADDRESSES: You may submit comments related to the Caldwell Canyon Mine Project Draft EIS by any of the following methods:

• Website: https://bit.ly/2SaxWcO.

• Email: blm_id_caldwell_canyon_mine_eis@blm.gov.

• Mail: Caldwell Canyon Mine EIS, c/o Tetra Tech, 2525 Palmer Street, Suite 2, Missoula, MT 59808.

Please reference “Caldwell Canyon Mine Draft EIS” on all correspondence. The BLM has made CD-ROM and print copies of the Caldwell Canyon Mine Draft EIS available in the BLM Pocatello Field Office at the following address: 4350 Cliffs Drive, Pocatello, ID 83204. In addition, the BLM has made an electronic copy of the Draft EIS available online at the BLM Land Use Planning and NEPA Register website: http://bit.ly/2zuZ8Mn.

FOR FURTHER INFORMATION CONTACT: For further information contact Bill Volk, Planning and NEPA Specialist, phone (208) 236-7503; address, BLM Pocatello Field Office, 4350 Cliffs Drive, Pocatello, ID 83204; email, wvolk@blm.gov; and fax, (208) 478-6376. Persons who use a telecommunications device for the deaf (TDD) may call the Federal Information Relay Service (FRS) at (800) 877-8339 to contact Mr. Volk. The FRS is available 24 hours a day, 7 days a week, to leave a message or question for Mr. Volk. You will receive a reply during normal business hours.

SUPPLEMENTARY INFORMATION: The BLM, as the Federal lease administrator, is the lead agency. The Idaho Department of Environmental Quality, Idaho Department of Lands, the U.S. Army Corps of Engineers, and the Idaho Governor's Office of Energy and Mineral Resources are cooperating agencies.

P4 Production, LLC (P4), a subsidiary of Bayer AG, developed and submitted a Mine and Reclamation Plan (M&RP), the Proposed Action, for the Caldwell Canyon Mine. The Proposed Action consists of mining Federal Phosphate Leases IDI-02, IDI-014080, and IDI-13738 and State of Idaho Mineral Lease E07959. Portions of the mine's waste rock would be placed into the nearby inactive Dry Valley Mine on Federal Phosphate Lease IDI-014184. P4 will request modifications to enlarge the phosphate lease boundaries for the Caldwell Canyon leases, and obtain authorization for a haul road across BLM public land as outlined in the Draft EIS. The BLM has fully evaluated alternatives to the Proposed Action, including a No Action Alternative, in the Draft EIS and addressed issues identified during scoping and analysis.

The BLM will make decisions to either approve, approve with modifications, or deny the Caldwell Canyon Mine M&RP and modification of the Dry Valley Mine M&RP. In addition, the BLM will determine whether to modify the lease boundaries, and whether to issue a right-of-way or phosphate use permit for a haul road on BLM lands. These decisions will consider public and agency input received on the Draft and Final EISs.

The BLM published a Notice of Intent (NOI) to prepare this EIS in the Federal Register on March 22, 2017, initiating a 30-day public scoping period for the Proposed Action during which the BLM accepted written comments. Public scoping identified concerns related to the following topics: The potential impacts to water quantity from dewatering; potential impacts to water quality from elevated levels of selenium and other constituents of concern; potential effects of increased noise on wildlife, safety, and socioeconomics; effects to tribal interests; cultural resources; wildlife; vegetation, visual quality; reclamation and financial assurance; and mitigation and monitoring of mine operations.

Before including your phone number, email address, or other personal identifying information in your comment, you should be aware that your entire comment—including your personal identifying information—may be made publicly available at any time. While you can ask us in your comment to withhold your personal identifying information from public review, we cannot guarantee that we will be able to do so.

Authorities: 42 U.S.C. 4321 et seq.; 40 CFR 1500 through 1508; 43 CFR 46; 43 U.S.C. 1701; 43 CFR 3590.

Peter J. Ditton,
BLM Idaho State Director, Acting.

[FR Doc. 2018-26093 Filed 11-29-18; 8:45 am]

BILLING CODE 4310-GG-P